DEPARTMENT OF THE TREASURY

Submission for OMB Review; Comment Request

December 23, 2009.

The Department of the Treasury will submit the following public information collection requirement to OMB for review and clearance under the Paperwork Reduction Act of 1995, Public Law 104-13 on or after the date of publication of this notice. Copies of this submission may be obtained by calling the Treasury Bureau Clearance Officer listed. Comments regarding this information collection should be addressed to the OMB reviewer listed and to the Treasury PRA Clearance Officer, Department of the Treasury, 1750 Pennsylvania Avenue, NW., Suite 11010, Washington, DC 20220.

DATES: Written comments should be received on or before January 29, 2010 to be assured of consideration.

Internal Revenue Service (IRS)

OMB Number: 1545-0140.

Type of Review: Revision of a currently approved collection.

Title: Form 2210, Underpayment of Estimated Tax by Individuals, Estate, and Trusts; Form 2210-F, Underpayment of Estimated Tax by Farmers and Fishermen.

Form: 2210.

Description: Internal Revenue Code section 6654 imposes a penalty for failure to pay estimated tax. These forms are used by taxpayers to determine whether they are subject to the penalty and to compute the penalty if it applies. The Service uses this information to determine whether the taxpayer is subject to the penalty, and to verify the penalty amount.

Respondents: Individuals and Households.

Estimated Total Burden Hours: 2,405,663 hours.

OMB Number: 1545-1276.

Type of Review: Extension of a currently approved collection.

Title: FI-88-86 (Final) Real Estate Mortgage Investment Conduits (TD 8458).

Description: Section 860E(e) imposes an excise tax on the transfer of a residual interest in a REMIC to a disqualified party. The tax must be paid by the transferor of a pass-thru entity of which the disqualified party is an interest holder.

Respondents: Businesses or other for-profits.

Estimated Total Burden Hours: 525 hours.

OMB Number: 1545-1680.

Type of Review: Extension of a currently approved collection.

Title: United States Additional Estate Tax Return Under Code Section 2057.

Form: 706-D.

Description: Form 706-D is used by individuals to compute and pay the additional taxes due under Code section 2057. IRS uses the information to determine that the taxes have been properly computed.

Respondents: Individuals or households.

Estimated Total Burden Hours: 530 hours.

OMB Number: 1545-1693.

Type of Review: Extension of a currently approved collection.

Title: Form 8871, Political Organization Notice of Section 527 Status; Form 8453-X, Political Organization Declaration for Electronic Filing of Notice of Section 527 Status.

Form: 8871, 8453-X.

Description: Internal Revenue Code section 527, as amended by Public Law 106-230 and Public Law 107-276, requires certain political organizations to provide information to the IRS regarding their name and address, their purpose, and the names and addresses of their officers, highly compensated employees, board of directors, and any related entities (within the meaning of section 168(h)94). Forms 8871 and 8453-X are used for this purpose.

Respondents: Not-for-profit institutions.

Estimated Total Burden Hours: 35,195 hours.

OMB Number: 1545-1846.

Type of Review: Extension of a currently approved collection.

Title: Revenue Procedure 2003-48, Update of Checklist Questionnaire Regarding Requests for Spin-Off Rulings.

Description: This revenue procedure updates Rev. Proc. 96-30, which sets forth in a checklist questionnaire the information that must be included in a request for ruling under section 355. This revenue procedure updates information that taxpayers must provide in order to receive letter rulings under section 355. This information is required to determine whether a taxpayer would qualify for non-recognition treatment.

Respondents: Businesses or other for-profits.

Estimated Total Burden Hours: 36,000 hours.

OMB Number: 1545-2004.

Type of Review: Extension of a currently approved collection.

Title: Deduction for Energy Efficient Commercial Buildings.

Description: This notice sets forth a process that allows the owner of energy efficient commercial building property to certify that the property satisfies the requirements of Section 179D(c)(1) and (d). This notice also provides a procedure whereby the developer of computer software may certify to the Internal Revenue Service that the software is acceptable for use in calculating energy and power consumption for purposes of Section 179D of the Code.

Respondents: Businesses or other for-profits.

Estimated Total Burden Hours: 3,761 hours.

OMB Number: 1545-2017.

Type of Review: Extension of a currently approved collection.

Title: Notice 2006-46 Announcement of Rules to be included in Final Regulations under Section 897(d) and (e) of the Internal Revenue Code.

Description: This notice announces that the IRS and Treasury Department will leave final regulations under section 897(d) and (e) of the Internal Revenue Code that will revise the rules under Temp. Treas. Reg. Sec. 1.897-5T, Notice 89-85, and Temp. Treas. Reg. Sec. 1.897-6T to take into account statutory mergers and consolidations under foreign or possessions law which may now qualify for non-recognition treatment under section 368(a)(1)(A). The specific collections of information are contained in Temp. Treas. Reg. Subsection 1.897-5T(c)(4)(II)(C) and 1.897-6T(b)(1). These reporting requirements notify the IRS of the transfer and enable it to verify that the transferor qualified for non-recognition and that the transferee will be subject to U.S. tax on a subsequent disposition of the U.S. real property.

Respondents: Businesses or other for-profits.

Estimated Total Burden Hours: 500 hours.

OMB Number: 1545-2018.

Type of Review: Extension of a currently approved collection.

Title: Revenue Procedure 2006-31, Revocation of Election filed under I.R.C. 83(b).

Description: This revenue procedure sets forth the procedures to be followed by individuals who wish to request permission to revoke the election they made under section 83(b).

Respondents: Individuals or Households.

Estimated Total Burden Hours: 400 hours.

Clearance Officer: R. Joseph Durbala, (202) 622-3634, Internal Revenue Service, 1111 Constitution Avenue, NW., Room 6129, Washington, DC 20224.

OMB Reviewer: Shagufta Ahmed, (202) 395-7873, Office of Management and Budget, Room 10235, New Executive Office Building, Washington, DC 20503.

Celina Elphage,
Treasury PRA Clearance Officer.

[FR Doc. E9-30896 Filed 12-29-09; 8:45 am]

BILLING CODE 4810-01-P